DEPARTMENT OF AGRICULTURE

Forest Service

Notice of Proposed New Fee Sites

AGENCY: Forest Service, Agriculture (USDA).

ACTION: Notice of proposed new fee sites.

SUMMARY: The Cibola National Forest and National Grasslands is proposing to charge new fees at 32 recreation sites listed in SUPPLEMENTARY INFORMATION of this notice. Funds from fees would be used for operation, maintenance, and improvements of these recreation sites. An analysis of nearby developed recreation sites with similar amenities shows the proposed fees are reasonable and typical of similar sites in the area.

DATES: If approved, the new fees would be implemented no earlier than six months following the publication of this notice in the Federal Register.

ADDRESSES: Cibola National Forest and National Grasslands, 2113 Osuna Rd. NE, Albuquerque, NM 87113.

FOR FURTHER INFORMATION CONTACT: Christa Osborn, Recreation, Engineering, Archeology, Lands and Minerals Staff, 505-346-3781 or christa.osborn@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Ojo Redondo, Black Kettle, Skipout, Spring Creek, Spring Creek Eastside Camp Area, Water Canyon, Lake Marvin, and Mills Canyon campgrounds are proposed at $10 per night. Lake Marvin campground also proposes a $15 fee for sites with electric hookups. The Mills Canyon Rim is proposed at $12 per night. Group site proposals include Water Canyon campground at $50 per night; Capilla Peak Pavilion at $45 per day; Red Canyon Picnic at $15 per day; and Water Canyon Picnic at $35 per day. A $5 day-use fee per vehicle at McGaffey Lake, Lobo Canyon, Hilso, Milk Ranch, Quartz Hill, Water Canyon, Albuquerque, Red Canyon, Fourth of July, Coyote, Piedra Lisa North, Pine Flat, Tunnel Springs, Black Kettle Recreation Complex, Skipout, Spring Creek, Lake Marvin, and Spring Creek Eastside would be added to improve services and facilities. A new state-wide New Mexico annual pass is being proposed at $40. A new $30 annual pass is being proposed for Black Kettle Ranger District's sites in Oklahoma and Texas. The full suite of Interagency passes would be honored.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: December 27, 2021.
Sandra Watts,
Acting Associate Deputy Chief, National Forest System.

[FR Doc. 2021-28393 Filed 12-30-21; 8:45 am]

BILLING CODE 3411-15-P